DEPARTMENT OF HOUSING AND URBAN DEVELOPMENT

24 CFR Part 990

[Docket No. FR-4874-N-05]

Negotiated Rulemaking Advisory Committee on the Operating Fund; Notice of Meeting

AGENCY: Office of the Assistant Secretary for Public and Indian Housing, HUD.

ACTION: Notice of Negotiated Rulemaking Committee meeting.

SUMMARY: This document announces a meeting of HUD's Negotiated Rulemaking Advisory Committee on the Operating Fund. The purpose of the committee is to provide advice and recommendations on developing a rule for effectuating changes to the Public Housing Operating Fund Program in response to the Harvard University Graduate School of Design's “Public Housing Operating Cost Study.”

DATES: The committee meeting will be held on Tuesday and Wednesday, May 11 and 12, 2004. Each day the meeting will start at approximately 8:30 a.m. and run until approximately 5 p.m., unless the committee agrees otherwise.

ADDRESSES: The committee meeting will take place at the Westin Peachtree Plaza Hotel, 210 Peachtree Street, NW., Atlanta, Georgia 30303-1704; telephone: (404) 659-1400 (this telephone number is not toll-free).

FOR FURTHER INFORMATION CONTACT: Chris Kubacki, Director, Funding and Financial Management Division, Public and Indian Housing—Real Estate Assessment Center, Suite 800, Department of Housing and Urban Development, 1280 Maryland Ave., SW., Washington, DC 20024-2135; telephone (202) 708-4932 (this telephone number is not toll-free). Individuals with speech or hearing impairments may access this number through TTY by calling the toll-free Federal Information Relay Service at 1-800-877-8339.

SUPPLEMENTARY INFORMATION:

I. Background

Through the Operating Fund program, HUD distributes operating subsidies to public housing agencies (PHAs). A regulatory description of the Operating Fund program can be found at 24 CFR part 990. The Operating Fund Formula regulations were developed through negotiated rulemaking procedures. Negotiated rulemaking for an Operating Fund Formula was initiated in March 1999, and resulted in a proposed rule, published on July 10, 2000 (65 FR 42488), which was followed by an interim rule published on March 29, 2001 (66 FR 17276). The March 29, 2001, interim rule established the Operating Fund Formula that is currently in effect.

During the negotiated rulemaking for the Operating Fund Formula, Congress in the Conference Report (H. Rept. 106-379, October 13, 1999) accompanying HUD's Fiscal Year (FY) 2000 Appropriation Act (Public Law 106-74, approved October 20, 1999) directed HUD to contract with the Harvard University Graduate School of Design (Harvard GSD) to conduct a study on the costs incurred in operating well-run public housing. Harvard GSD issued a final report, the Harvard Cost Study, on June 6, 2003. In Section 222 of the Consolidated Appropriations Act, 2004 (Pub. L. 108-199, approved January 23, 2004), Congress directed the Secretary to conduct negotiated rulemaking with the publication of a final rule by July 1, 2004.

On March 10, 2004, HUD published a document establishing a Negotiated Rulemaking Advisory Committee on the Operating Fund (Committee) to provide advice and recommendations on developing a rule for effectuating changes to the Public Housing Operating Fund Program in response to the Harvard Cost Study. The first meeting of the Committee was held in Washington, DC on March 30, March 31, and April 1, 2004. A second meeting was held, also in Washington, DC, on April 13-15, 2004.

II. Committee Meeting

This document announces a third meeting of the Committee. The Committee meeting will take place as described in the DATES and ADDRESSES section of this document.

In accordance with the Federal Advisory Committee Act (5 U.S.C. Appendix) and the implementing regulations issued by the General Services Administration at 41 CFR part 102-3, HUD publishes notices in the Federal Register of an advisory committee meeting at least 15 calendar days prior to the meeting. In this case HUD is providing less than 15-days advance notice due to exceptional circumstances. The Committee was originally scheduled to complete its work at the second meeting. Although great progress was made at the second meeting towards the development of a rule, the Committee determined that a third meeting would be necessary to complete its work. The time required to complete hotel reservations and other logistical arrangements prevented publication of this meeting notice prior to today's date.

The agenda planned for the meeting includes discussion of issues relating to the development of changes in response to the Harvard Cost Study. The meeting will be open to the public without advance registration. Public attendance may be limited to the space available. Members of the public may be allowed to make statements during the meeting, to the extent time permits, and file written statements with the committee for its consideration. Written statements should be submitted to the address listed in the FOR FURTHER INFORMATION CONTACT section of this document.

Dated: April 29, 2004.
William O. Russell,
Deputy Assistant Secretary for Public and Voucher Programs.

[FR Doc. 04-10106 Filed 5-3-04; 8:45 am]

BILLING CODE 4210-33-P